OFFICE OF PERSONNEL MANAGEMENT

Submission for Review: Application for 10-Point Veteran Preference, 3206-0001

AGENCY: U.S. Office of Personnel Management.

ACTION: Notice and request for comments.

SUMMARY: The U.S. Office of Personnel Management (OPM) offers the general public and other Federal agencies the opportunity to comment on an extension of an already existing information collection request (ICR) 3206-0001, Application for 10-Point Veteran Preference.

DATES: Comments are encouraged and will be accepted until August 13, 2010. This process is conducted in accordance with 5 CFR 1320.1.

ADDRESSES: Interested persons are invited to submit written comments on the proposed information collection to Employee Services, U.S. Office of Personnel Management, 1900 E Street, NW., Washington, DC 20415, Attention: Gale Perryman or via electronic mail to gale.perryman@opm.gov.

FOR FURTHER INFORMATION CONTACT: A copy of this ICR, with applicable supporting documentation, may be obtained by contacting Hiring Policy, U.S. Office of Personnel Management, 1900 E Street, NW., Washington, DC 20415, Attention: Gale Perryman or via electronic mail to gale.perryman@opm.gov.

SUPPLEMENTARY INFORMATION: The Standard Form (SF) 15, Application for 10-Point Veteran Preference, is used by OPM examining offices and agency appointing officials to adjudicate individuals' claims for veterans' preference in accordance with the Veterans' Preference Act of 1944.

As required by the Paperwork Reduction Act of 1995 (Pub. L. 104-13, 44 U.S.C. chapter 35) as amended by the Clinger-Cohen Act (Pub. L. 104-106), OPM is soliciting comments for this collection to:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Employee Services, Office of Personnel Management.

Title: Application for 10-Point Veteran Preference.

OMB Number: 3206-0001.

Affected Public: Federal Employees, Retirees, Individuals and Households.

Number of Respondents: 18,418.

Estimated Time per Respondent: 10 minutes/hour.

Total Burden Hours: 3,070 hours.

U.S. Office of Personnel Management,
John Berry,
Director.

[FR Doc. 2010-14164 Filed 6-11-10; 8:45 am]

BILLING CODE 6325-38-P